DEPARTMENT OF COMMERCE

[I.D. 110700B]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Fisheries Capacity Reduction Program Advanced Referenda and Other Requirements.

Form Number(s): None.

OMB Approval Number: 0648-0413.

Type of Request: Regular submission.

Burden Hours: 3,200.

Number of Respondents: 800.

Average Hours Per Response: 4 hours.

Needs and Uses: NOAA conducts a program to reduce excess fishing capacity by paying fishermen to (1) surrender their fishing permits or (2) both surrender their permits and either scrap their vessels or restrict vessel titles to prevent fishing. Separately approved requirements for the program included a referendum to be held at a certain point in the process. Comments on the proposed rule indicated that additional referenda may be needed. NOAA also decided that certain requirements that were considered implicitly part of previous requirements need to be made explicit. The submission to OMB covers the additional referenda and those other requirements.

Affected Public: Business and other for-profit organizations, individuals.

Frequency: On occasion.

Respondent's Obligation: Mandatory.

OMB Desk Officer: David Rostker, (202) 395-3897.

Copies of the above information collection proposal can be obtained by calling or writing Madeleine Clayton, Departmental Forms Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: November 3, 2000.
Gwellnar Banks,
Management Analyst, Office of the Chief Information Officer.

[FR Doc. 00-28953; Filed 11-9-00; 8:45am]

BILLING CODE 3510-22-S